NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 16, 2013. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (DAA-AU-2012-0009, 1 item, 1 temporary item). Master files of an electronic information system used to track information on keys to ammunition storage buildings.

2. Department of the Army, Agency-wide (DAA-AU-2012-0010, 2 items, 2 temporary items). Master files of electronic information systems used to report and share communication security information.

3. Department of Defense, Office of the Secretary of Defense (DAA-0330-2012-0005, 1 item, 1 temporary item). Records relating to the control of protected health information including authorizations, disclosures, and training documentation.

4. Department of Defense, Office of the Secretary of Defense (DAA-0330-2012-0007, 1 item, 1 temporary item). Master files of an electronic information system used to maintain information on students attending primary and secondary schools on military installations.

5. Department of Health and Human Services, Office of the Secretary (DAA-0468-2012-0003, 6 items, 4 temporary items). Administrative files, draft correspondence files, background decisional files, and training records. Proposed for permanent retention are official correspondence files and briefing books for the Chief and Deputy Chief Administrative Law Judges.

6. Department of Homeland Security, United States Coast Guard (N1-26-12-5, 2 items, 2 temporary items). Master files and reports of an electronic information system used to create on-scene environmental evaluations based on global observation information.

7. Department of the Interior, Bureau of Ocean Energy Management (N1-589-12-2, 8 items, 4 temporary items). Records documenting policy development, agency origin and organization, and decisions and activities of senior executives. Proposed for permanent retention are significant records relating to policy, rulemaking, congressional activities, and public relations.

8. Department of State, Bureau of Administration (DAA-0059-2012-0004, 2 items, 2 temporary items). Master files of an electronic information system used to vet funding requests of foreign businesses and organizations.

9. Department of Transportation, Federal Motor Carrier Safety Administration (DAA-0557-0013-0001, 1 item, 1 temporary item). Master files of an electronic information system used to track and manage grants.

10. Administrative Office of the United States Courts, Office of the Director (N1-116-12-1, 11 items, 6 temporary items). Master files of an electronic information system used to track correspondence. Also included are working group records, subject files, and background files. Proposed for permanent retention are Director and Deputy Director calendars and correspondence, and record sets of briefing books and procedural manuals.

11. Consumer Financial Protection Bureau, Division of External Affairs (N1-587-12-9, 9 items, 7 temporary items). Correspondence, event files, and analysis files. Proposed for permanent retention are high-level event records.

12. Consumer Financial Protection Bureau, Consumer Education and Engagement (N1-587-12-15, 15 items, 13 temporary items). Records related to publications, events, and outreach. Proposed for permanent retention are significant event files and reports to Congress.

13. Federal Retirement Thrift Investment Board, Office of Enterprise Risk Management (N1-474-12-7, 1 item, 1 temporary item). Audit and financial data collected during internal audits.

14. Federal Retirement Thrift Investment Board, Office of Enterprise Risk Management (N1-474-12-9, 2 items, 2 temporary items). Records relating to final audit reports.

Dated: April 4, 2013.
Paul M. Wester, Jr.,
Chief Records Officer for the U.S. Government.

[FR Doc. 2013-08886 Filed 4-15-13; 8:45 am]

BILLING CODE 7515-01-P